DEPARTMENT OF THE INTERIOR

Bureau of Indian Affairs

[223A2100DD/AAKC001030/A0A501010.999900]

Self-Governance PROGRESS Act Negotiated Rulemaking Committee Establishment

AGENCY: Bureau of Indian Affairs, Interior.

ACTION: Notice of establishment.

SUMMARY: The Department of the Interior (DOI) is establishing the Self-Governance PROGRESS Act Negotiated Rulemaking Committee (Committee). The Committee will negotiate and advise the Secretary of the Interior (Secretary) on a proposed rule to implement the Practical Reforms and Other Goals To Reinforce the Effectiveness of Self-Governance and Self-Determination for Indian Tribes Act of 2019 (PROGRESS Act).

FOR FURTHER INFORMATION CONTACT: Ms. Vickie Hanvey, Designated Federal Officer; telephone: (918) 931-0745; email: Vickie.hanvey@bia.gov.

SUPPLEMENTARY INFORMATION:

I. Background

On October 21, 2020, the PROGRESS Act was signed into law. See Public Law 116-180. The PROGRESS Act amends subchapter I of the Indian Self-Determination and Education Assistance Act (ISDEAA), 25 U.S.C. 5301 et seq., which addresses Indian Self-Determination, and subchapter IV of the ISDEAA, which addresses DOI's Tribal Self-Governance Program. The PROGRESS Act calls for a negotiated rulemaking committee to be established under 5 U.S.C. 565, with membership consisting only of representatives of Federal and Tribal governments, with the Office of Self-Governance serving as the lead agency for the DOI. The PROGRESS Act also authorizes the Secretary to adapt negotiated rulemaking procedures to the unique context of self-governance and the government-to-government relationship between the United States and Indian Tribes.

On February 1, 2021, a notice in the Federal Register (86 FR 7656) announced the DOI's intent to form the negotiated rulemaking committee under the PROGRESS Act. On November 23, 2021, a notice in the Federal Register (86 FR 66491) announced the proposed membership. The Committee will negotiate and advise the Secretary on a proposed rule to implement the Practical Reforms and Other Goals To Reinforce the Effectiveness of Self-Governance and Self-Determination for Indian Tribes Act of 2019 (PROGRESS Act). The November 23, 2021, notice discussed the issues to be negotiated and the interest group representatives proposed as members of the Committee. The Secretary received additional proposed nominations in response to the notice and considered the nominations based on the qualifications outlined in the notice for approval. The nominees were approved to join the Committee and are included in this Federal Register notice.

The purpose of the Committee is to serve as an advisory committee under the Federal Advisory Committee Act (FACA) (5 U.S.C. App.), and the Negotiated Rulemaking Act of 1996 (NRA) (5 U.S.C. 561 et seq.). The Committee will use a negotiated rulemaking process to develop regulations for implementation of the PROGRESS Act to amend, delete, and add provisions to the existing regulations at 25 CFR part 1000 Annual Funding Agreements Under the Tribal Self-Government Act Amendments to the Indian Self-Determination and Education Act, which addresses Tribal Self-Governance compacts. All open public meetings will be published in future Federal Register notice.

II. Committee Membership

The Committee will be formed in full compliance with the requirements of the NRA, FACA, and the PROGRESS Act. The Secretary appoints the following seven primary Tribal representatives to the Committee.

Appointed primary tribal representative | Affiliation
W. Ron Allen, Chairman/CEO | Jamestown S'Klallam Tribe.
Melanie Benjamin, Chief Executive | Mille Lacs Band of Ojibwe.
Richard Peterson, President | Central Council of the Tlingit and Haida Indian Tribes of Alaska.
Michael Dolson, Councilman | The Confederated Salish and Kootenai Tribes of the Flathead Reservation.
Melanie Fourkiller, Director of Self-Governance | Choctaw Nation of Oklahoma.
Russel (Buster) Attebery, Chairman | Karuk Tribe.
Karen Fierro, Self-Governance Director | Ak-Chin Indian Community.

The Secretary appoints the following seven alternate Tribal representatives:

Appointed alternate tribal representative | Affiliation
Sandra Sampson, Board Treasurer | Confederated Tribes of the Umatilla Indian Reservation.
Jennifer Webster, Councilwoman | Oneida Nation.
Gerry Hope, Transportation Director, Former Tribal Leader | Sitka Tribe of Alaska.
Jody LaMere, Councilwoman | Chippewa Cree Indians of the Rocky Boy's Reservation.
Lana Butler, Secretary | Sac and Fox Nation.
Will Micklin, Second Vice President | Central Council of the Tlingit and Haida Indian Tribes of Alaska.
Annette Bryan, Council Member | Puyallup Tribes of Indians.

The Secretary appoints the following six primary Federal representatives:

Name | Affiliation
Sharee Freeman, Director | Office of Self-Governance, Assistant Secretary—Indian Affairs.
Bryan Shade, Attorney-Advisor | Division of Indian Affairs, Office of the Solicitor.
Kelly Titensor, Native American Affairs Advisor | Bureau of Reclamation.
Bryon Loosle, Division Chief | National Conservation Lands, Bureau of Land and Minerals Management.
Scott Aikin, National Native American Programs Coordinator | U.S. Fish and Wildlife Service Head Quarters.
Rose Petoskey, Senior Counselor to the Assistant Secretary—Indian Affairs | Office of the Assistant Secretary—Indian Affairs.

The Secretary appoints the following six alternate Federal representatives:

Name | Affiliation
Matt Kallappa, Northwest Field Office Manager | Office of Self-Governance, Assistant Secretary—Indian Affairs.
Jody Schwarz, Attorney-Advisor | Division of Indian Affairs, Office of the Solicitor.
Vicki Cook, Native American and International Affairs Office | Bureau of Reclamation.
C. David Johnson, Tribal Liaison | Bureau of Land and Minerals Management.
Dorothy FireCloud, Native American Affairs Liaison | National Park Service.
Samuel Kohn, Senior Counselor to the Assistant Secretary—Indian Affairs | Office of the Assistant Secretary—Indian Affairs.

III. Public Disclosure of Comments

Written comments may be sent to the Designated Federal Officer listed in the FOR FURTHER INFORMATION CONTACT section above. Before including your address, phone number, email address, or other personal identifying information in your comment, you should be aware that your entire comment—including your personal identifying information—may be made publicly available at any time. While you can ask in your comment that DOI withhold your personal identifying information from public review, DOI cannot guarantee that it will be able to do so.

IV. Authority

This notice is published in accordance with the NRA, FACA, and the PROGRESS Act.

Bryan Newland,
Assistant Secretary—Indian Affairs.

[FR Doc. 2022-10583 Filed 5-17-22; 8:45 am]

BILLING CODE 4337-15-P